DEPARTMENT OF LABOR

Office of the Secretary

Submission for OMB Review; Comment Request

September 18, 2001.

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtained by calling the Department of Labor. To obtain documentation contact Darrin King at (202) 693-4129 or E-Mail: king-darrin@dol.gov.

Comments should be sent to Office of Information and Regulatory Affairs, Attn: OMB Desk Office for ESA, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• evaluate the accuracy of the agency's estimate of the burden of the proposed collection of information, including the validity of the methodology and assumptions used;

• enhance the quality, utility, and clarity of the information to be collected; and

• minimize the burden of the collection of information on those who are to respond, including through the use of appropriate automated, electronic, mechanical, or other technological collection techniques or other forms of information technology, e.g., permitting electronic submission of responses.

Agency: Employment Standards Agency (ESA).

Type of Review: Revision of a currently approved collection.

Title: Applications to Employ Special Industrial Homeworkers and Workers with Disabilities.

OMB Number: 1215-0005.

Affected Public: Business or other for-profit; Individuals or households; Not-for-profit institutions; Farms; State, Local, or Tribal Government.

Type of Response: Reporting.

Frequency: Annually and Biennially.

Form | Number of respondents | Annual responses | Average time per response (hours) | Burden hours
WH-2 | 50 | 50 | .5 | 25
WH-226 | 4,500 | 4,500 | .75 | 3,375
WH-226A | 4,500 | 12,000 | .75 | 9,000
Total | *4,550 | 16,550 |  | 12,400
*Respondents for the WH-226 and WH-226A are the same respondent group.

Total Annualized Capital/Startup Costs: $0.

Total Annual Costs (operating/maintaining systems or purchasing services): $1,683.

Description: The information collected on these forms is authorized by 26 CFR Section 530, and is necessary to determine whether respondents will be authorized to pay wages to handicap individuals and employ homeworkers in the restricted industries under the provisions of section 11(d) and 14(c) of the Fair Labor Standards Act.

Agency: Employment Standards Agency (ESA).

Type of Review: Extension of a currently approved collection.

Title: OFCCP Complaint Form.

OMB Number: 1215-0131.

Affected Public: Individuals or households.

Type of Response: Reporting.

Frequency: On occasion.

Number of Respondents: 1,046.

Annual Responses: 1,046.

Average Time per Response: 1.28 hours.

Burden Hours: 1,339.

Total Annualized Capital/Startup Costs: $0.

Total Annual Costs (operating/maintaining systems or purchasing services): $387.

Description: The information collected on the form CC-4 is authorized by 41 CFR 60-1.23, 60-250.26(c), and 60-741.61. This form is submitted by individuals who allege illegal discrimination by Federal contractors under programs administered by OFCCP.

Agency: Employment Standards Agency (ESA).

Type of Review: Extension of a currently approved collection.

Title: Application for Approval of a Representative's Fee in a Black Lung Claim Proceeding Conducted by the U.S. Department of Labor.

OMB Number: 1215-0171.

Affected Public: Business or other for-profit.

Type of Responses: Reporting.

Frequency: On occasion.

Number of Respondents: 500.

Annual Responses: 500.

Average Time per Response: 42 minutes.

Burden Hours: 350.

Total Annualized Capital/Startup Costs: $0.

Total Annualized costs (operating/maintaining systems or purchasing services): $0.

Description: The purpose of the CM-972 is to collect data to determine if a representative's services and the amounts charged can be paid under the Black Lung Benefits Act (30 U.S.C. 901) and 20 CFR 725.365-6. 20 CFR 725.366 sets forth the specific information required on the CM-972.

Ira L. Mills,
Departmental Clearance Officer.

[FR Doc. 01-25347 Filed 10-9-01; 8:45 am]

BILLING CODE 4510-27-M